DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The FAA will hold the meeting on October 22, 23, and 24, 2002, in Wichita, Kansas from 8 a.m. to 3 p.m. on the 22nd and 23rd and from 8 a.m. to 12 p.m. on the 24th.

ADDRESSES: Holiday Inn Select, 549 S. Rock Road, Wichita, Kansas 67207.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: The ATSRAC will meet at the Holiday Inn Select in Wichita, Kansas at the address shown under the ADDRESSES heading in this notice. The meeting agenda will include the following:

• Review of Working Group 6 (Wire System Certification Requirements) and 7's (Standard Wire Practice Manual) final reports.

• Review of draft final report from Working Group 10 (Small Transport Airplane Harmonization Working Group).

• Discussion of compliance schedule for Enhanced Airworthiness Program for Airplane Systems (EAPAS) rulemaking.

The meeting is open to the public, but attendance will be limited to the availability of meeting room space. The FAA will make the following services available if you request them by October 11, 2002:

• Teleconferencing;

• Sign and oral interpretation;

• A listening device.

Individuals using the teleconferencing service and calling from outside the Washington, DC metropolitan area will be responsible for paying long distance charges. To arrange for any of the above services, contact the persons listed under the FOR FURTHER INFORMATION CONTACT heading of this notice.

The public may present written statements to the Committee at any time by providing 20 copies to the Committee's Executive Director or by bringing the copies to the meeting. Public statements will be considered if time permits.

Issued in Washington, DC, on September 26, 2002.
Anthony F. Fazio,
Director, Office of Rulemaking.

[FR Doc. 02-25318 Filed 10-3-02; 8:45 am]

BILLING CODE 4910-13-M